DEPARTMENT OF COMMERCE

International Trade Administration

[C-475-819]

Certain Pasta from Italy: Extension of Time Limit for the Preliminary Results of the Countervailing Duty Administrative Review

AGENCY: Import Administration, International Trade Administration, Department of Commerce.

DATES: Effective Date: March 16, 2012.

FOR FURTHER INFORMATION CONTACT: Joseph Shuler or Yasmin Nair, AD/CVD Operations, Office 1, Import Administration, U.S. Department of Commerce, 14th Street and Constitution Avenue NW, Washington, DC 20230; telephone (202) 482-1293 and (202) 482-3813, respectively.

SUPPLEMENTARY INFORMATION:

Background

On August 26, 2011, the U.S. Department of Commerce (Department) published a notice of initiation of administrative review of the countervailing duty order on certain pasta from Italy, covering the period January 1, 2010, through December 31, 2010. See Initiation of Antidumping and Countervailing Duty Administrative Reviews and Requests for Revocation in Part, 76 FR 53404 (August 26, 2011). The preliminary results of this administrative review are currently due no later than April 1, 2012.¹

¹ Because April 1, 2012 is a Sunday, the preliminary results of this review would be due no later than the next business day. See Notice of Clarification: Application of “Next Business Day” Rule for Administrative Determination Deadlines Pursuant to the Tariff Act of 1930, As Amended, 70 FR 24533 (May 10, 2005).

Statutory Time Limits

Section 751(a)(3)(A) of the Tariff Act of 1930, as amended (the Act), requires the Department to issue the preliminary results of an administrative review within 245 days after the last day of the anniversary month of a countervailing duty order for which a review is requested and issue the final results within 120 days after the date on which the preliminary results are published. However, if it is not practicable to complete the review within the time period, section 751(a)(3)(A) of the Act allows the Department to extend these deadlines to a maximum of 365 days and 180 days, respectively. See also 19 CFR 351.213(h).

Extension of Time Limit for Preliminary Results

Because the Department will require additional time to review and analyze submitted information from the Government of Italy and the respondent company, Molino e Pastifico Tomasello, S.p.A., and to issue supplemental questionnaires, it is not practicable to complete the preliminary results of this review within the original time limit. Therefore, the Department is extending the time limit for completion of the preliminary results by 120 days. The preliminary results will now be due no later than July 30, 2012.

This notice is issued and published in accordance with sections 751(a)(3)(A) and 777(i)(1) of the Act.

Dated: March 9, 2012.
Christian Marsh,
Deputy Assistant Secretary for Antidumping and Countervailing Duty Operations.

[FR Doc. 2012-6463 Filed 3-15-12; 8:45 am]

BILLING CODE 3510-DS-P